DEPARTMENT OF TRANSPORTATION

Federal Railroad Administration

[Docket No. FRA 2015-0007-N-5]

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking an extension of the following currently approved information collection activities. On March 13, 2015, FRA issued its “Railworthiness Directive Under 49 CFR 180.509 for Railroad Tank Cars Equipped With Certain McKenzie Valve & Machining LLC Valves” and published this Directive in the Federal Register on March 18, 2015. See 80 FR 14027. Also, on March 18, 2015, FRA published a Notice in the Federal Register requesting immediate Emergency Clearance Processing from the Office of Management and Budget (OMB) for the information collection associated with its Railworthiness Directive Notice No. 1. See 80 FR 14238. On March 19, 2015, OMB granted FRA's request for Emergency Clearance for its Railworthiness Directive Notice No. 1. The information collection activities associated with FRA's Railworthiness Directive Notice No. 1 received a six-month approval. FRA now seeks a regular clearance (extension of the current approval for three years) while tank car owners possessing the thousands of tank cars utilizing these problematic unapproved valves have them removed and replaced with approved valves. FRA has issued this Railworthiness Directive (Directive) to all owners of tank cars used to transport hazardous materials within the United States to ensure they identify and appropriately remove and replace these valves with approved valves consistent with Federal regulations.

Before submitting these information collection requirements for clearance by the Office of Management and Budget (OMB), FRA is soliciting public comment on specific aspects of the activities identified below.

DATES: Comments must be received no later than May 29, 2015.

ADDRESSES: Submit written comments on any or all of the following proposed activities by mail to either: Mr. Robert Brogan, Office of Safety, Planning and Evaluation Division, RRS-21, Federal Railroad Administration, 1200 New Jersey Ave. SE., Mail Stop 17, Washington, DC 20590, or Ms. Kimberly Toone, Office of Information Technology, RAD-20, Federal Railroad Administration, 1200 New Jersey Ave. SE., Mail Stop 35, Washington, DC 20590. Commenters requesting FRA to acknowledge receipt of their respective comments must include a self-addressed stamped postcard stating, “Comments on OMB control number 2130-0606.” Alternatively, comments may be transmitted via facsimile to (202) 493-6216 or (202) 493-6497, or via email to Mr. Brogan at Robert.Brogan@dot.gov, or to Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave. SE., Mail Stop 17, Washington, DC 20590 (telephone: (202) 493-6292) or Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Public Law 104-13, sec. 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below are brief summaries of three currently approved information collection activities that FRA will submit for clearance by OMB as required under the Paperwork Reduction Act:

Title: Railworthiness Directive Notice No. 1.

OMB Control Number: 2130-0606.

Abstract: Recent FRA investigations identified several railroad tank cars transporting hazardous materials and leaking small quantities of product from the cars' liquid lines. FRA's investigation revealed that the liquid lines of the leaking tank cars were equipped with a certain type of 3-inch ball valve marketed and sold by McKenzie Valve & Machining LLC (McKenzie) (formerly McKenzie Valve & Machining Company), an affiliate company of Union Tank Car Company (UTLX). FRA further found certain closure plugs installed on the 3-inch valves cause mechanical damage to the valves, which leads to the destruction of the valves' seal integrity and that the 3-inch valves, as well as similarly-designed 1-inch and 2-inch valves provided by this manufacturer are not approved for use on tank cars.

Form Number(s): N/A.

Affected Public: Businesses.

Frequency of Submission: One-time; on occasion.

Respondent Universe: 100 Tank Car Owners.

Reporting Burden
Railworthiness directive notice No. 1: Requirements | Respondent universe | Total annual responses | Average time per response | Total annual burden hours
I. Identification of RR tank cars equipped with McKenzie valves & document providing reporting mark and number of each car so equipped and type of valve to FRA | 100 Tank Car Owners (15,000 affected tank cars) | 200 identifications/reports | 2 hours | 400
—Record of Inspection Date and Location and Results of Inspection | 100 Tank Car Owners (15,000 affected tank cars) | 200 records | 30 minutes | 100

Total Estimated Responses: 400.

Total Estimated Annual Burden: 500 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on March 25, 2015.
Rebecca Pennington,
Chief Financial Officer.

[FR Doc. 2015-07185 Filed 3-27-15; 8:45 am]

BILLING CODE 4910-06-P